DEPARTMENT OF LABOR

Employment and Training Administration

Comment Request for Information Collection for the National Agricultural Workers Survey: Extension With Revisions (OMB 1205-0453)

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)] (PRA). The PRA helps ensure that respondents can provide requested data in the desired format with minimal reporting burden (time and financial resources), collection instruments are clearly understood and the impact of collection requirements on respondents can be properly assessed.

Currently, ETA is soliciting comments concerning the information collection request (ICR) to continue administering the National Agricultural Workers Survey (NAWS), with new questions on education and training, digital literacy, housing, and health. Proposed changes also include question deletions and modifications.

Interested parties are encouraged to provide comments to the contact shown in the ADDRESSES section. Comments must be written to receive consideration, and they will be summarized and included in the request for Office of Management and Budget (OMB) approval of the final information collection request (ICR). In order to help ensure appropriate consideration, comments should mention OMB CONTROL NUMBER 1205-0453.

DATES: Submit written comments to the office listed in the addresses section below on or before August 25, 2015.

ADDRESSES: A copy of this ICR with applicable supporting documentation; including a description of the likely respondents, proposed frequency of response, and estimated total burden may be obtained free by contacting Mr. Daniel Carroll, Office of Policy Development and Research, Room N-5641, Employment and Training Administration, U.S. Department of Labor, 200 Constitution Avenue NW., Washington, DC 20210. Telephone number: 202-693-2795 (this is not a toll-free number). Individuals with hearing or speech impairments may access the telephone number above via TTY by calling the toll-free Federal Information Relay Service at 1-877-889-5627 (TTY/TDD). Fax: 202-693-2766. Email: carroll.daniel.j@dol.gov.

FOR FURTHER INFORMATION CONTACT: Mr. Wayne Gordon, gordon.wayne@dol.gov.

SUPPLEMENTARY INFORMATION:

I. Background

The NAWS is an employment-based, annual survey of the demographic, employment, and health characteristics of hired crop farm workers, including workers brought to farms by labor intermediaries. The survey began in 1988. Each year, between 1,500 and 3,500 workers are randomly chosen for an interview. Interviews are conducted three times per year to account for the seasonality of agricultural employment. Several Federal agencies utilize the NAWS to collect information on the population of hired crop farm workers.

ETA is seeking approval to add new questions to the NAWS on farm workers' participation in education and training programs, access to and use of digital information devices, utilization of acute, preventive, and dental health care, location of living quarters in relation to production agriculture, and type of housing. Proposed changes also include: (1) Temporarily discontinuing questions on occupational injuries, musculoskeletal problems, and potential exposure to pesticides, all of which were administered for two years and have fulfilled the current information needs of the sponsoring Federal agencies; (2) deleting 17 other questions that either had too few responses to be useful for analysis, will be redundant with the addition of proposed questions, or are no longer valid; and (3) modifying the stem and/or response options of six questions to make them more useful.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Agency: DOL-ETA.

Type of Review: Extension with Changes.

Title of Collection: National Agricultural Workers Survey.

Form: Primary Questionnaire.

OMB Control Number: 1205-0453.

Affected Public: Individuals, Farms.

Estimated Number of Respondents: 7,216.

Frequency: Annual.

Total Estimated Annual Responses: 7,890.

Estimated Average Time per Response: 60 minutes.

Estimated Total Annual Burden Hours: 3,927 hours.

Total Estimated Annual Other Cost Burden: $0.

We will summarize and/or include in the request for OMB approval of the ICR, the comments received in response to this comment request; they will also become a matter of public record.

Portia Wu,
Assistant Secretary for Employment and Training, Labor.

[FR Doc. 2015-15730 Filed 6-25-15; 8:45 am]

BILLING CODE 4510-FN-P